DEPARTMENT OF TRANSPORTATION

Surface Transportation Board

49 CFR Part 1152

[STB Ex Parte No. 537 (Sub-No. 1)]

Public Participation in Railroad Abandonment Proceedings

AGENCY: Surface Transportation Board.

ACTION: Notice of proposed rulemaking.

SUMMARY: The Surface Transportation Board (Board) is proposing to amend its regulations concerning the service of a notice of intent to abandon or discontinue rail service by removing an obsolete reference to a labor organization and making technical changes.

DATES: Comments are due October 2, 2003.

ADDRESSES: Send an original and 10 copies of comments referring to “STB Ex Parte No. 537 (Sub-No. 1)” to: Surface Transportation Board, 1925 K Street, NW., Washington, DC 20423-0001.

FOR FURTHER INFORMATION CONTACT: John Sado, (202) 565-1661. [Federal Information Relay Service for the hearing impaired: 1-800-877-8339.]

SUPPLEMENTARY INFORMATION: The regulations at 49 CFR 1152.20(a)(2) provide that applicants seeking to abandon or discontinue rail service must serve their notices of intent on certain interested parties, including, under section 1152.20(a)(2)(xi), “[t]he headquarters of the Railroad Labor Executives’ Association” (RLEA). It is the Board's understanding that RLEA no longer exists, and it is proposed that section 1150.20(a)(2)(xi) be removed. The regulations, however, still provide labor interests with notice of proposed abandonments or discontinuances, because current section 1150.20(a)(2)(xiii) requires service on “[t]he headquarters of all duly certified labor organizations that represent employees on the affected rail line.” ¹ This paragraph also contains language that should be moved for clarity: “For the purposes of this subsection ‘directly affected states’ are those in which any part of the line sought to be abandoned is located.” This language would be more appropriate in section 1150.20(a)(2)(ii), and the Board proposes to move the substance of that language to that location. Finally, we propose to redesignate sections 1150.20(a)(2)(xii) and (xiii) as sections 1150.20(a)(2)(xi) and (xii), respectively.

¹ Similar language for giving notice to labor representatives is found at sections 1121.4(h), 1150.32(e), 1150.35(c)(3), 1150.42(e), 1150.45(c)(3) and 1151.2(a)(6) concerning acquisition or operation of rail lines or feeder line applications.

The Board certifies that the proposed rule will not have a significant economic impact on a substantial number of small entities, because the rule simply removes an obsolete reference and makes technical changes. The Board seeks comments on all matters raised by this notice.

This action will not significantly affect either the quality of the human environment or the conservation of energy resources.

List of Subjects in 49 CFR Part 1152

Administrative practice and procedure, Railroads, Reporting and recordkeeping requirements, and Uniform System of Accounts.

Decided: August 25, 2003.
By the Board, Chairman Nober.
Vernon A. Williams,
Secretary.

For the reasons set forth in the preamble, the Surface Transportation Board proposes to amend part 1152, of title 49, chapter X, of the Code of Federal Regulations as follows:

PART 1152—ABANDONMENT AND DISCONTINUANCE OF RAIL LINES AND RAIL TRANSPORTATION UNDER 49 U.S.C. 10903

1. The authority citation for Part 1152 continues to read as follows:

Authority: 11 U.S.C. 1170; 16 U.S.C. 1247(d) and 1248; 45 U.S.C. 744; and 49 U.S.C. 701 note (1995) (section 204 of the ICC Termination Act of 1995), 721(a), 10502, 10903-10905, and 11161.

2. Section 1152.20 is amended by removing paragraph (a)(2)(xi) and redesignating paragraphs(a)(2)(xii) and (xiii) as paragraphs 1150.20(a)(2)(xi) and (xii), respectively.

3. Revise § 1150.20(a)(2)(ii) and newly redesignated § 1150.20(a)(2)(xii) to read as follows:

§ 1152.20 Notice of intent to abandon or discontinue service.

(a) * * *

(2) * * *

(ii) The Governor (by certified mail) of each state directly affected by the abandonment or discontinuance (for the purposes of this paragraph (a)(2) “states directly affected” are those in which any part of the line sought to be abandoned is located);

* * * * *

(xii) The headquarters of all duly certified labor organizations that represent employees on the affected rail line.

* * * * *

[FR Doc. 03-22292 Filed 8-29-03; 8:45 am]

BILLING CODE 4915-00-P